Title 3—

The President

Executive Order 13168 of September 22, 2000

President's Commission on Improving Economic Opportunity in Communities Dependent on Tobacco Production While Protecting Public Health

By the authority vested in me as President by the Constitution and the laws of the United States of America, including the Federal Advisory Committee Act, as amended (5 U.S.C. App.), it is hereby ordered as follows:

Section 1. Establishment. (a) There is established the “President's Commission on Improving Economic Opportunity in Communities Dependent on Tobacco Production while Protecting Public Health” (the “Commission”). The Commission shall be composed of not more than 10 members to be selected by the Secretary of Agriculture, in consultation with the President. The members may include tobacco producers and quota holders; public health experts; Federal, State, and local government representatives; and experts in agricultural economics and economic development.

(b) Two co-chairs shall be selected by the Secretary of Agriculture from the membership of the Commission. The co-chairs shall report to the President through the Secretary of Agriculture and the Secretary of Health and Human Services.

Sec. 2. Purpose. The Commission shall advise the President on changes occurring in the tobacco farming economy and recommend such measures as may be necessary to improve economic opportunity and development in communities that are dependent on tobacco production, while protecting consumers, particularly children, from hazards associated with smoking.

Sec. 3. Functions. (a) The Commission shall collect and review information about changes in the tobacco farming economy and Federal, State, and local initiatives intended to help tobacco growers, tobacco quota holders, and communities dependent on tobacco production pursue new economic opportunities. The Commission may make recommendations concerning these, and any other, changes and initiatives that may be necessary to improve economic opportunity in communities dependent on tobacco production. It shall also consider the public health implications of such changes and initiatives, including the efforts to reduce youth smoking and tobacco-related health consequences in the United States and abroad.

(b) For the purpose of carrying out its functions, the Commission may hold hearings, establish subcommittees, and convene and act at such times and places as the Commission may find advisable.

Sec. 4. Reports. The Commission shall make a preliminary report to the President by December 31, 2000. A final report shall be submitted to the President 6 months after the Commission's first meeting.

Sec. 5. Administration. (a) To the extent permitted by law, the heads of executive departments and agencies shall provide the Commission, upon request, with such information as it may require for the purposes of carrying out its functions.

(b) While engaged in the work of the Commission, members appointed from among private citizens of the United States may be allowed travel expenses, including per diem in lieu of subsistence, as authorized by law for persons serving intermittently in the Government service (5 U.S.C. 5701-5707) to the extent funds are available for such purposes.

(c) To the extent permitted by law and subject to the availability of appropriations, the Department of Agriculture shall provide the Commission with administrative services, funds, facilities, staff, and other support services necessary for the performance of the Commission's functions. Notwithstanding any other Executive Order, the functions of the President under the Federal Advisory Committee Act, as amended, except that of reporting to the Congress, that are applicable to the Committee shall be performed by the Secretary of Agriculture in accordance with guidelines that have been issued by the Administration of General Services.

Sec. 6. General. The Commission shall terminate 30 days after submitting its final report, but not later than 2 years from the date of this order, unless extended by the President.

wj

THE WHITE HOUSE,

September 22, 2000.

[FR Doc. 00-24978

Filed 9-26-00; 8:45 am]

Billing code 3195-01-P